DEPARTMENT OF EDUCATION

Applications for New Awards; Education Innovation and Research (EIR) Program—Early-Phase Grants

AGENCY: Office of Elementary and Secondary Education, Department of Education.

ACTION: Notice.

SUMMARY: The Department of Education (Department) is issuing a notice inviting applications for fiscal year (FY) 2021 for the EIR program—Early-phase Grants, Assistance Listing Number 84.411C (Early-phase Grants). This notice relates to the approved information collection under OMB control number 1894-0006.

DATES:

Applications Available: July 30, 2021.

Deadline for Notice of Intent to Apply: August 17, 2021.

Deadline for Transmittal of Applications: August 27, 2021.

Deadline for Intergovernmental Review: October 26, 2021.

Pre-Application Information: The Department will post additional competition information for prospective applicants on the EIR program website: https://oese.ed.gov/offices/office-of-discretionary-grants-support-services/innovation-early-learning/education-innovation-and-research-eir/fy-2021-competition/.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Yvonne Crockett, U.S. Department of Education, 400 Maryland Avenue SW, Room 3E344, Washington, DC 20202-5900. Telephone: (202) 453-7122. Email: eir@ed.gov.

If you use a telecommunications device for the deaf (TDD) or a text telephone (TTY), call the Federal Relay Service (FRS), toll-free, at 1-800-877-8339.

SUPPLEMENTARY INFORMATION:

Full Text of Announcement

I. Funding Opportunity Description

Purpose of Program: The EIR program, established under section 4611 of the Elementary and Secondary Education Act, as amended (ESEA), provides funding to create, develop, implement, replicate, or take to scale entrepreneurial, evidence-based (as defined in this notice), field-initiated innovations to improve student achievement and attainment for high-need students; and rigorously evaluate such innovations. The EIR program is designed to generate and validate solutions to persistent education challenges and to support the expansion of those solutions to serve substantially larger numbers of students.

The central design element of the EIR program is its multi-tier structure that links the amount of funding an applicant may receive to the quality of the evidence supporting the efficacy of the proposed project, with the expectation that projects that build this evidence will advance through EIR's grant tiers: “Early-phase,” “Mid-phase,” and “Expansion.”

The Department awards three types of grants under this program: “Early-phase” grants, “Mid-phase” grants, and “Expansion” grants. These grants differ in terms of the level of prior evidence of effectiveness required for consideration for funding, the expectations regarding the kind of evidence and information funded projects should produce, the level of scale funded projects should reach, and, consequently, the amount of funding available to support each type of project.

Early-phase grants must demonstrate a rationale (as defined in this notice). The Department expects that Early-phase grants will be used to fund the development, implementation, and feasibility testing of a program, which prior research suggests has promise, for the purpose of determining whether the program can successfully improve student achievement and attainment for high need students. These Early-phase grants are not intended simply to implement established practices in additional locations or address needs that are unique to one particular context. The goal is to determine whether and in what ways relatively newer practices can improve student achievement and attainment for high-need students.

This notice invites applications for Early-phase grants only. The notices inviting applications for Mid-Phase and Expansion grants were published in the Federal Register on June 7, 2021 (86 FR 30292 and 86 FR 30302, respectively).

Background:

While this notice is for the Early-phase tier only, the premise of the EIR program is that new and innovative programs and practices can help to solve the persistent problems in education that prevent students, particularly high-need students, from succeeding. These innovations need to be evaluated, and, if sufficient evidence of effectiveness can be demonstrated, the intent is for these innovations to be replicated and tested in new populations and settings. EIR is not intended to provide support for practices that are already commonly implemented by educators, unless significant adaptations of such practices warrant testing to determine if they can accelerate achievement, or greatly increase the efficiency and likelihood that they can be widely implemented in a variety of new populations and settings effectively.

As an EIR project is implemented, grantees are encouraged to learn more about how the practices improve student achievement and attainment; and to develop increasingly rigorous evidence of effectiveness and new strategies to efficiently and cost-effectively scale to new school districts, regions, and States. We encourage applicants to develop a logic model (as defined in this notice), theory of action, or another conceptual framework that includes the goals, objectives, outcomes, and key project components (as defined in this notice) of the project.

All EIR applicants and grantees should also consider how they need to develop their organizational capacity, project financing, or business plans to sustain their projects and continue implementation and adaptation after Federal funding ends. The Department intends to provide grantees with technical assistance in their dissemination, scaling, and sustainability efforts.

EIR is designed to offer opportunities for States, districts, schools, and educators to develop innovations and scale effective practices that address their most pressing challenges.

Early-phase grantees are encouraged to make continuous and iterative improvements in project design and implementation before conducting a full-scale evaluation of effectiveness. Grantees should consider how easily others could implement the proposed practice, and how its implementation could potentially be improved. Additionally, grantees should consider using data from early indicators to gauge initial impact and to consider possible changes in implementation that could increase student achievement and attainment.

Early-phase applicants should develop, implement, and test the feasibility of their projects. The evaluation of an Early-phase project should be an experimental or quasi-experimental design study (as defined in this notice) that can determine whether the program can successfully improve student achievement and attainment for high-need students. Early-phase grantees' evaluation designs are encouraged to have the potential to demonstrate a statistically significant effect on improving student outcomes or other relevant outcomes based on moderate evidence (as defined in this notice) from at least one well-designed and well-implemented experimental or quasi-experimental design study. The Department intends to provide grantees and their independent evaluators with evaluation technical assistance. This evaluation technical assistance could include grantees and their independent evaluators providing to the Department or its contractor updated comprehensive evaluation plans in a format as requested by the technical assistance provider and using such tools as the Department may request. Grantees will be encouraged to update this evaluation plan at least annually to reflect any changes to the evaluation, with updates consistent with the scope and objectives of the approved application.

The FY 2021 Early-phase competition includes four absolute priorities and three competitive preference priorities. All Early-phase applicants must address Absolute Priority 1. Early-phase applicants are also required to address one of the other three absolute priorities. Applicants addressing Absolute Priority 3 also have the option to address Competitive Preference Priority 1. Applicants have the option of addressing Competitive Preference Priority 2 and Competitive Preference Priority 3 and may opt to do so regardless of the absolute priority they select. Applicants may choose to address multiple competitive preference priorities.

“Absolute Priority 1—Demonstrates a Rationale” establishes the evidence requirement for this tier of grants. All Early-phase applicants must submit prior evidence of effectiveness that meets the demonstrates a rationale evidence standard.

“Absolute Priority 2—Field-Initiated Innovations—General” allows applicants to propose projects that align with the intent of the EIR program statute: To create and take to scale entrepreneurial, evidence-based, field-initiated innovations to improve student achievement and attainment.

“Absolute Priority 3—Field-Initiated Innovations—Science, Technology, Engineering, or Mathematics (STEM)” is intended to support innovations to improve student achievement and attainment in the STEM field, consistent with efforts to ensure our Nation's economic competitiveness by improving and expanding STEM learning and engagement, including computer science (as defined in this notice).

In Absolute Priority 3, the Department recognizes the importance of funding Pre-Kindergarten (Pre-K) through grade 12 STEM education and anticipates that projects would expand opportunities for high-need students. Within this absolute priority, the Department includes Competitive Preference Priority 1 that focuses on expanding opportunities in computer science for underserved populations such as minorities, girls, and youth from rural communities and low-income families, to help reduce achievement and attainment gaps in a manner consistent with nondiscrimination requirements contained in the U.S. Constitution and Federal civil rights laws.

“Absolute Priority 4—Field-Initiated Innovations—Fostering Knowledge and Promoting the Development of Skills That Prepare Students To Be Informed, Thoughtful, and Productive Individuals and Citizens” is intended to advance innovation, build evidence, and address the learning and achievement of high-need students beginning in Pre-K through grade 12. The priority promotes social and emotional learning (SEL) skills that prepare students to be informed, thoughtful, and productive individuals.

Competitive Preference Priorities 2 and 3 highlight the Administration's acknowledgment of the timely and urgent needs in Pre-K-12 education related to addressing the impact of the novel coronavirus 2019 (COVID-19) and promoting equity.

“Competitive Preference Priority 2—Innovative Approaches to Addressing the Impact of COVID-19 on Underserved Students and Educators” is intended to encourage applicants to propose projects that focus on the needs of underserved students (as defined in this notice) most impacted by COVID-19. The EIR program statute refers to “high-needs students.” In addressing the needs of underserved students, the statutory requirement for serving “high-needs students” can also be addressed.

The Department seeks innovative strategies under this priority that support students' success in the classroom; are delivered by qualified individuals (based on requirements established by the applicant) who receive adequate training and support; and are aligned with students' learning experiences in their classrooms. This includes incorporating any innovations and technology practices from the last year that have improved student's learning experiences to supplementally support and enhance the return to in-person learning.

“Competitive Preference Priority 3—Promoting Equity and Adequacy in Student Access to Educational Resources and Opportunities” is intended to offer applicants the option of proposing projects that promote equity. Improving educational equity and adequacy is a priority for the Nation's education system, with particular emphasis on supporting underserved students.

The Department seeks projects that develop and evaluate evidence-based, field-initiated innovations to remedy the inequities in our country's education system. This type of innovation will better enable students the access to the educational opportunities they need to succeed in school and reach their future goals.

Through these priorities, the Department intends to advance innovation, build evidence, and address the learning and achievement of high-need students beginning in Pre-K through grade 12.

Priorities: This notice includes four absolute priorities and three competitive preference priorities. In accordance with 34 CFR 75.105(b)(2)(ii), Absolute Priority 1 is from the notice of final priorities published in the Federal Register on March 9, 2020 (85 FR 13640) (Administrative Priorities). In accordance with 34 CFR 75.105(b)(2)(iv), Absolute Priority 2 is from section 4611(a)(1)(A) of the ESEA. In accordance with 34 CFR 75.105(b)(2)(iv), Absolute Priorities 3 and 4 are from section 4611(a)(1)(A) of the ESEA and the Supplemental Priorities and Definitions for Discretionary Grant Programs, published in the Federal Register on March 2, 2018 (83 FR 9096) (Supplemental Priorities). Competitive Preference Priority 1 is from the Supplemental Priorities. Competitive Preference Priorities 2 and 3 are from the Department's notice of final priorities and definitions published elsewhere in this issue of the Federal Register (NFP).

In the Early-phase grant competition, Absolute Priorities 2, 3, and 4 constitute their own funding categories. The Secretary intends to award grants under each of these absolute priorities provided that applications of sufficient quality are submitted. To ensure that applicants are considered for the correct type of grant, applicants must clearly identify the specific absolute priority that the proposed project addresses. If an entity is interested in proposing separate projects (e.g., one that addresses Absolute Priority 2 and another that addresses Absolute Priority 3), separate applications must be submitted.

Absolute Priorities: For FY 2021 and any subsequent year in which we make awards from the list of unfunded applications from this competition, these priorities are absolute priorities. Under 34 CFR 75.105(c)(3), we consider only applications that meet Absolute Priority 1 and one additional absolute priority (Absolute Priority 2, Absolute Priority 3, or Absolute Priority 4).

These priorities are:

Absolute Priority 1—Applications that Demonstrate a Rationale.

Under this priority, an applicant proposes a project that demonstrates a rationale.

Absolute Priority 2—Field-Initiated Innovations—General.

Projects that are designed to create, develop, implement, replicate, or take to scale entrepreneurial, evidence-based, field-initiated innovations to improve student achievement and attainment for high-need students.

Absolute Priority 3—Field-Initiated Innovations—Promoting STEM Education, With a Particular Focus on Computer Science.

Projects that are designed to—

(1) Create, develop, implement, replicate, or take to scale entrepreneurial, evidence-based, field-initiated innovations to improve student achievement and attainment for high-need students; and

(2) Improve student achievement or other educational outcomes in one or more of the following areas: Science, technology, engineering, math, or computer science.

Absolute Priority 4—Field-Initiated Innovations—Fostering Knowledge and Promoting the Development of Skills That Prepare Students To Be Informed, Thoughtful, and Productive Individuals and Citizens.

Projects that are designed to—

(1) Create, develop, implement, replicate, or take to scale entrepreneurial, evidence-based, field-initiated innovations to improve student achievement and attainment for high-need students; and

(2) Improve student academic performance and better prepare students for employment, responsible citizenship, and fulfilling lives, including by preparing children or students to do one or more of the following:

(a) Develop positive personal relationships with others.

(b) Develop determination, perseverance, and the ability to overcome obstacles.

(c) Develop self-esteem through perseverance and earned success.

(d) Develop problem-solving skills.

(e) Develop self-regulation in order to work toward long-term goals.

Competitive Preference Priorities: For FY 2021 and any subsequent year in which we make awards from the list of unfunded applications from this competition, these priorities are competitive preference priorities. Within Absolute Priority 3, we give competitive preference to applications that address Competitive Preference Priority 1. Within Absolute Priorities 2, 3, and 4, we give competitive preference to applications that address Competitive Preference Priorities 2 or 3.

These priorities are:

Competitive Preference Priority 1—Computer Science (up to 5 points).

Projects designed to improve student achievement or other educational outcomes in computer science. These projects must address expanding access to and participation in rigorous computer science coursework for traditionally underrepresented students such as racial or ethnic minorities, women, students in communities served by rural local educational agencies (LEAs) (as defined in this notice), children or students with disabilities (as defined in this notice), or low-income individuals (as defined under section 312(g) of the Higher Education Act of 1965, as amended).

Competitive Preference Priority 2—Innovative Approaches to Addressing the Impact of COVID-19 on Underserved Students and Educators (up to 5 points).

Projects designed to address the needs of underserved students and educators most impacted by COVID-19 through—

(a) Engaging in two-way, mutually respectful collaboration with key stakeholders, such as families, caretakers, students, educators (including teachers, school leaders and other school staff), and community leaders (including individuals from diverse cultural, linguistic, and socioeconomic backgrounds), to assess and understand students' social, emotional, physical and mental health, and academic needs, in light of historical educational inequities and the impact of the COVID-19 pandemic; and

(b) Developing and implementing strategies to address those needs through one or more of the following:

(1) Re-engaging students (and their families) and strengthening relationships between educators, students, and families.

(2) Supporting district- and school-wide use of personalized learning (as defined in this notice).

(3) Utilizing multi-tier system of supports (as defined in this notice) and universal design for learning (as defined in this notice).

(4) Providing educators with professional development (as defined in this notice) and resources to use trauma-informed practices.

(5) Creating or supporting equitable and inclusive learning environments in schools.

(6) Ensuring students have access to additional specialized instructional support personnel (as defined in this notice) during their school day, at their school site.

(7) Finding and supporting students experiencing homelessness, including those not attending school during the pandemic.

(8) Providing additional supports to educators to address their mental health and well-being and instructional practice needs.

(9) Providing evidence-based supports and educational opportunities to accelerate grade-level student learning (especially for underserved students) through in-class learning and additional instructional practice, including those supported by technology in ways that do not contribute to tracking or remediation, which may include one or both of the following:

(i) High-quality tutoring (as defined in this notice), summer learning and enrichment, or opportunities for high-quality expanded learning time (as defined in this notice) as well as implementation of embedded, high-quality formative assessment to support personalization.

(ii) Providing targeted supports for high school students to prepare for post-secondary education transition and success.

Competitive Preference Priority 3—Promoting Equity and Adequacy in Student Access to Educational Resources and Opportunities (up to 5 points).

Projects designed to promote equity in access to critical resources for underserved students in prekindergarten through grade 12 through one or more of the following:

(a) Addressing inequities in access to fully certified, experienced, and effective teachers through one or more of the following activities:

(1) Improving the preparation, recruitment, early career support, and development of teachers in high-need or hard-to-staff schools, including strategies that improve teacher diversity.

(2) Reforming hiring, compensation, and advancement systems.

(3) Improving the retention of fully certified (including teachers certified in the area they are assigned to teach), experienced, and effective teachers in districts, schools, and classrooms serving high concentrations of underserved students through one or more of the following activities:

(i) Providing comprehensive, high-retention pathways into the profession.

(ii) Creating or enhancing opportunities for teachers' professional growth and leadership opportunities.

(iii) Delivering collaborative, job-embedded, and sustained professional development.

(iv) Improving workplace conditions to create opportunities for successful teaching and learning, including through inclusive and culturally affirming working environments.

(b) Addressing inequities in access to and success in rigorous, engaging, and culturally and linguistically responsive teaching and learning environments that prepare students for college and career through one or both of the following activities:

(1) Increasing access to and success in middle school courses that are foundational to advanced coursework in high school; advanced courses and programs, including Advanced Placement, International Baccalaureate, high-quality dual or concurrent enrollment (as defined in this notice), and high-quality early college high school (as defined in this notice), programs; high-quality STEM programs; or high-quality career and technical education pathways that are integrated into the curriculum.

(2) Developing, and expanding access to, programs designed to provide a well-rounded education (as defined in this notice).

(c) Addressing bias (e.g., implicit and explicit) and creating inclusive, supportive learning environments.

(d) Involving diverse stakeholders to include students, families, caretakers, educators (including teachers, school leaders, and other staff), and community leaders in State and local education decisions.

(e) Identifying and addressing, in collaboration with students, families, and educators, policies that result in the disproportionate use of exclusionary discipline through data collection and analysis (including school climate surveys) disaggregated by race, sex, English learner, disability status, gender-identity, and sexual orientation, in compliance with 20 U.S.C. 1232h and 34 CFR part 98, and other important variables.

(f) Identifying and addressing issues of equity in access to and the use of innovative tools, rigorous content, and effective teaching and learning practices, including by providing job-embedded professional development to educators on strategies for equitably integrating educational technology in ways that elevate student engagement beyond passive use and over-reliance on drill-and-practice to a more robust, creative, and playful medium.

(g) Addressing policies, practices, and procedures that contribute to significant disproportionality in special education or programs for English learners based on race or ethnicity.

(h) Improving the quality of educational programs in juvenile justice facilities (such as detention facilities and secure and non-secure placements) or supporting re-entry after release, by linking youth to education or job training programs.

Definitions: The definitions of “baseline,” “demonstrates a rationale,” “experimental study,” “logic model,” “moderate evidence,” “nonprofit,” “performance measure,” “performance target,” “project component,” “quasi-experimental design study,” “relevant outcome,” and “What Works Clearinghouse Handbooks (WWC Handbooks)” are from 34 CFR 77.1. The definitions of “children or students with disabilities,” “computer science,” and “rural local educational agency” are from the Supplemental Priorities. The definitions of “dual or concurrent enrollment,” “early college high school,” “evidence-based,” “expanded learning time,” “local educational agency,” “multi-tier system of supports,” “professional development,” “specialized instructional support personnel,” “State educational agency,” “universal design for learning,” and “well-rounded education” are from section 8101 of the ESEA. The definitions of “high-quality tutoring,” “personalized learning,” and “underserved students” are from the NFP.

Baseline means the starting point from which performance is measured and targets are set.

Children or students with disabilities means children with disabilities as defined in the Individuals with Disabilities Education Act (IDEA) or individuals defined as having a disability under Section 504 of the Rehabilitation Act of 1973 (Section 504) (or children or students who are eligible under both laws).

Computer science means the study of computers and algorithmic processes and includes the study of computing principles and theories, computational thinking, computer hardware, software design, coding, analytics, and computer applications.

Computer science often includes computer programming or coding as a tool to create software, including applications, games, websites, and tools to manage or manipulate data; or development and management of computer hardware and the other electronics related to sharing, securing, and using digital information.

In addition to coding, the expanding field of computer science emphasizes computational thinking and interdisciplinary problem-solving to equip students with the skills and abilities necessary to apply computation in our digital world.

Computer science does not include using a computer for everyday activities, such as browsing the internet; use of tools like word processing, spreadsheets, or presentation software; or using computers in the study and exploration of unrelated subjects.

Demonstrates a rationale means a key project component included in the project's logic model is informed by research or evaluation findings that suggest the project component is likely to improve relevant outcomes.

Dual or concurrent enrollment means a program offered by a partnership between at least one institution of higher education and at least one local educational agency through which a secondary school student who has not graduated from high school with a regular high school diploma is able to enroll in one or more postsecondary courses and earn postsecondary credit that—

(a) Is transferable to the institutions of higher education in the partnership; and

(b) Applies toward completion of a degree or recognized educational credential as described in the Higher Education Act of 1965 (20 U.S.C. 1001 et seq.).

Early college high school means a partnership between at least one local educational agency and at least one institution of higher education that allows participants to simultaneously complete requirements toward earning a regular high school diploma and earn not less than 12 credits that are transferable to the institutions of higher education in the partnership as part of an organized course of study toward a postsecondary degree or credential at no cost to the participant or participant's family.

Evidence-based means an activity, strategy, or intervention that demonstrates a rationale based on high quality research findings or positive evaluation that such activity, strategy, or intervention is likely to improve student outcomes or other relevant outcomes.

Expanded learning time means using a longer school day, week, or year schedule to significantly increase the total number of school hours, in order to include additional time for—

(a) Activities and instruction for enrichment as part of a well-rounded education; and

(b) Instructional and support staff to collaborate, plan, and engage in professional development (including professional development on family and community engagement) within and across grades and subjects.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbooks:

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

High-quality tutoring means tutoring that is based on evidence-based strategies to support students' success in the classroom (provided in addition to, and not as a replacement for, classroom teaching); is delivered in individualized or small-group settings; reflects differentiated support based on student need; is aligned with the district's curriculum and rigorous academic standards; has established standards of intensity and dosage based on level of need; is delivered by tutors who are well-trained, who are supported with resources and personnel (such as a tutor coordinator), and who work closely with the student's teacher of record; and includes instruments to examine instructional quality and quantity.

Local educational agency (LEA) means:

(a) In General. A public board of education or other public authority legally constituted within a State for either administrative control or direction of, or to perform a service function for, public elementary schools or secondary schools in a city, county, township, school district, or other political subdivision of a State, or of or for a combination of school districts or counties that is recognized in a State as an administrative agency for its public elementary schools or secondary schools.

(b) Administrative Control and Direction. The term includes any other public institution or agency having administrative control and direction of a public elementary school or secondary school.

(c) Bureau of Indian Education Schools. The term includes an elementary school or secondary school funded by the Bureau of Indian Education but only to the extent that including the school makes the school eligible for programs for which specific eligibility is not provided to the school in another provision of law and the school does not have a student population that is smaller than the student population of the LEA receiving assistance under the ESEA with the smallest student population, except that the school shall not be subject to the jurisdiction of any State educational agency (SEA) (as defined in this notice) other than the Bureau of Indian Education.

(d) Educational Service Agencies. The term includes educational service agencies and consortia of those agencies.

(e) State Educational Agency. The term includes the SEA in a State in which the SEA is the sole educational agency for all public schools.

Logic model (also referred to as a theory of action) means a framework that identifies key project components of the proposed project (i.e., the active “ingredients” that are hypothesized to be critical to achieving the relevant outcomes) and describes the theoretical and operational relationships among the key project components and relevant outcomes.

Moderate evidence means that there is evidence of effectiveness of a key project component in improving a relevant outcome for a sample that overlaps with the populations or settings proposed to receive that component, based on a relevant finding from one of the following:

(i) A practice guide prepared by the WWC using version 2.1, 3.0, 4.0, or 4.1 of the WWC Handbooks reporting a “strong evidence base” or “moderate evidence base” for the corresponding practice guide recommendation;

(ii) An intervention report prepared by the WWC using version 2.1, 3.0, 4.0, or 4.1 of the WWC Handbooks reporting a “positive effect” or “potentially positive effect” on a relevant outcome based on a “medium to large” extent of evidence, with no reporting of a “negative effect” or “potentially negative effect” on a relevant outcome; or

(iii) A single experimental study or quasi-experimental design study reviewed and reported by the WWC using version 2.1, 3.0, 4.0, or 4.1 of the WWC Handbooks, or otherwise assessed by the Department using version 4.1 of the WWC Handbook, as appropriate, and that—

(A) Meets WWC standards with or without reservations;

(B) Includes at least one statistically significant and positive (i.e., favorable) effect on a relevant outcome;

(C) Includes no overriding statistically significant and negative effects on relevant outcomes reported in the study or in a corresponding WWC intervention report prepared under version 2.1, 3.0, 4.0, or 4.1 of the WWC Handbooks; and

(D) Is based on a sample from more than one site (e.g., State, county, city, school district, or postsecondary campus) and includes at least 350 students or other individuals across sites. Multiple studies of the same project component that each meet requirements in paragraphs (iii)(A), (B), and (C) of this definition may together satisfy this requirement.

Multi-tier system of supports means a comprehensive continuum of evidence-based, systemic practices to support a rapid response to students' needs, with regular observation to facilitate data-based instructional decision-making.

Nonprofit, as applied to an agency, organization, or institution, means that it is owned and operated by one or more corporations or associations whose net earnings do not benefit, and cannot lawfully benefit, any private shareholder or entity.

Performance measure means any quantitative indicator, statistic, or metric used to gauge program or project performance.

Performance target means a level of performance that an applicant would seek to meet during the course of a project or as a result of a project.

Personalized learning means instruction that is aligned with rigorous college- and career-ready standards so that the pace of learning and the instructional approach are tailored to the needs of individual learners. Learning objectives and content, as well as the pace, may all vary depending on a learner's needs. Personalized learning may also draw on a number of student-centered blended learning models (e.g., competency-based education, project-based learning, universal design for learning). In addition, learning activities are aligned with specific interests of each learner. Data from a variety of sources (including formative assessments, student feedback, and progress in digital learning activities), along with teacher recommendations, are often used to personalize learning.

Professional development means activities that—

(i) Are an integral part of school and local educational agency strategies for providing educators (including teachers, principals, other school leaders, specialized instructional support personnel, paraprofessionals, and, as applicable, early childhood educators) with the knowledge and skills necessary to enable students to succeed in a well-rounded education and to meet the challenging State academic standards; and

(ii) Are sustained (not stand-alone, 1-day, or short term workshops), intensive, collaborative, job-embedded, data-driven, and classroom-focused, and may include activities that—

(A) Improve and increase teachers' knowledge of the academic subjects the teachers teach; understanding of how students learn; and ability to analyze student work and achievement from multiple sources, including how to adjust instructional strategies, assessments, and materials based on such analysis;

(B) Are an integral part of broad schoolwide and districtwide educational improvement plans;

(C) Allow personalized plans for each educator to address the educator's specific needs identified in observation or other feedback;

(D) Improve classroom management skills;

(E) Support the recruitment, hiring, and training of effective teachers, including teachers who became certified through State and local alternative routes to certification;

(F) Advance teacher understanding of effective instructional strategies that are evidence-based; and strategies for improving student academic achievement or substantially increasing the knowledge and teaching skills of teachers;

(G) Are aligned with, and directly related to, academic goals of the school or local educational agency;

(H) Are developed with extensive participation of teachers, principals, other school leaders, parents, representatives of Indian tribes (as applicable), and administrators of schools to be served under the ESEA;

(I) Are designed to give teachers of English learners, and other teachers and instructional staff, the knowledge and skills to provide instruction and appropriate language and academic support services to those children, including the appropriate use of curricula and assessments;

(J) To the extent appropriate, provide training for teachers, principals, and other school leaders in the use of technology (including education about the harms of copyright piracy), so that technology and technology applications are effectively used in the classroom to improve teaching and learning in the curricula and academic subjects in which the teachers teach;

(K) As a whole, are regularly evaluated for their impact on increased teacher effectiveness and improved student academic achievement, with the findings of the evaluations used to improve the quality of professional development;

(L) Are designed to give teachers of children with disabilities or children with developmental delays, and other teachers and instructional staff, the knowledge and skills to provide instruction and academic support services, to those children, including positive behavioral interventions and supports, multi-tier system of supports, and use of accommodations;

(M) Include instruction in the use of data and assessments to inform and instruct classroom practice;

(N) Include instruction in ways that teachers, principals, other school leaders, specialized instructional support personnel, and school administrators may work more effectively with parents and families;

(O) Involve the forming of partnerships with institutions of higher education, including, as applicable, Tribal Colleges and Universities as defined in section 316(b) of the Higher Education Act of 1965 (20 U.S.C. 1059c(b)), to establish school-based teacher, principal, and other school leader training programs that provide prospective teachers, novice teachers, principals, and other school leaders with an opportunity to work under the guidance of experienced teachers, principals, other school leaders, and faculty of such institutions;

(P) Create programs to enable paraprofessionals (assisting teachers employed by a local educational agency receiving assistance under part A of title I) to obtain the education necessary for those paraprofessionals to become certified and licensed teachers;

(Q) Provide follow-up training to teachers who have participated in activities described in this paragraph that are designed to ensure that the knowledge and skills learned by the teachers are implemented in the classroom; and

(R) Where practicable, provide jointly for school staff and other early childhood education program providers, to address the transition to elementary school, including regular issues related to school readiness.

Project component means an activity, strategy, intervention, process, product, practice, or policy included in a project. Evidence may pertain to an individual project component or to a combination of project components (e.g., training teachers on instructional practices for English learners and follow-on coaching for these teachers).

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbooks.

Relevant outcome means the student outcome(s) or other outcome(s) the key project component is designed to improve, consistent with the specific goals of the program.

Rural local educational agency means a local educational agency that is eligible under the Small Rural School Achievement (SRSA) program or the Rural and Low-Income School (RLIS) program authorized under Title V, Part B of the ESEA. Eligible applicants may determine whether a particular district is eligible for these programs by referring to information on the Department's website at https://oese.ed.gov/files/2021/05/FY2021_Master_Eligibility_Spreadsheet-public51221.xlsx.

Specialized instructional support personnel means—

(a) School counselors, school social workers, and school psychologists; and

(b) Other qualified professional personnel, such as school nurses, speech language pathologists, and school librarians, involved in providing assessment, diagnosis, counseling, educational, therapeutic, and other necessary services (including related services as that term is defined in section 602 of the Individuals with Disabilities Education Act (20 U.S.C. 1401)) as part of a comprehensive program to meet student needs.

State educational agency (SEA) means the agency primarily responsible for the State supervision of public elementary schools and secondary schools.

Underserved students means high-need students as determined by the applicant, which may include one or more of the following:

(a) Students who are living in poverty, especially those students who are also served by schools with high concentrations of students living in poverty.

(b) Students of color.

(c) Students who are members of federally recognized Indian Tribes.

(d) English learners.

(e) Students with disabilities, including students served under the Individuals with Disabilities Education Act and Section 504 of the Rehabilitation Act of 1973.

(f) Disconnected youth, including but not limited to (1) students who lost significant amounts of in-person instruction as a result of the COVID-19 pandemic, and (2) students who did not consistently participate in remote instruction when offered during school building closures.

(g) Migrant students.

(h) Students experiencing homelessness.

(i) Lesbian, gay, bisexual, transgender, and queer (LGBTQ+) students.

(j) Students in foster care.

(k) Students without documentation of immigration status.

(l) Pregnant, parenting, or caregiving students.

(m) Students impacted by the justice system including formerly incarcerated students.

(n) Students who are the first in their family to attend postsecondary education.

(o) Students enrolling in or seeking to enroll in postsecondary education for the first time at the age of 20 or older.

(p) Students who are working full-time while enrolling in postsecondary education.

(q) Students who are enrolling in or seeking to enroll in postsecondary education who are eligible for a Pell Grant.

(r) Adult students with low skills, including those with limited English proficiency.

Universal design for learning means a scientifically valid framework for guiding educational practice that—

(a) Provides flexibility in the ways information is presented, in the ways students respond or demonstrate knowledge and skills, and in the ways students are engaged; and

(b) Reduces barriers in instruction, provides appropriate accommodations, supports, and challenges, and maintains high achievement expectations for all students, including students with disabilities and students who are limited English proficient.

Well-rounded education means courses, activities, and programming in subjects such as English, reading or language arts, writing, science, technology, engineering, mathematics, foreign languages, civics and government, economics, arts, history, geography, computer science, music, career and technical education, health, physical education, and any other subject, as determined by the State or local educational agency, with the purpose of providing all students access to an enriched curriculum and educational experience.

What Works Clearinghouse Handbooks (WWC Handbooks) means the standards and procedures set forth in the WWC Standards Handbook, Versions 4.0 or 4.1, and WWC Procedures Handbook, Versions 4.0 or 4.1, or in the WWC Procedures and Standards Handbook, Version 3.0 or Version 2.1 (all incorporated by reference, see § 77.2). Study findings eligible for review under WWC standards can meet WWC standards without reservations, meet WWC standards with reservations, or not meet WWC standards. WWC practice guides and intervention reports include findings from systematic reviews of evidence as described in the WWC Handbooks documentation.

Note: The What Works Clearinghouse Procedures and Standards Handbooks are available at https://ies.ed.gov/ncee/wwc/Handbooks.

Program Authority: 20 U.S.C. 7261.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Administrative Priorities. (e) The Supplemental Priorities. (f) The NFP.

Note: The regulations in 34 CFR part 86 apply to institutions of higher education (IHEs) only.

II. Award Information

Type of Award: Discretionary grants.

Estimated Available Funds: $180,000,000.

These estimated available funds are the total available for all three types of grants under the EIR program (Early-phase, Mid-phase, and Expansion grants).

Contingent upon the availability of funds and the quality of applications, we may make additional awards in subsequent years from the list of unfunded applications from this competition.

Estimated Average Size of Awards: Up to $4,000,000.

Maximum Award: We will not make an award exceeding $4,000,000 for a project period of 60 months. The Department intends to fund one or more projects under each of the EIR competitions, including Expansion (84.411A), Mid-phase (84.411B), and Early-phase (84.411C). Entities may submit applications for different projects for more than one competition (Early-phase, Mid-phase, and Expansion). The maximum award amount a grantee may receive under these three competitions, taken together, is $15,000,000. If an entity is within funding range for multiple applications, the Department will award the highest scoring applications up to $15,000,000.

Estimated Number of Awards: 12-23.

Note: The Department is not bound by any estimates in this notice.

Project Period: Up to 60 months.

Note: Under section 4611(c) of the ESEA, the Department must use at least 25 percent of EIR funds for a fiscal year to make awards to applicants serving rural areas, contingent on receipt of a sufficient number of applications of sufficient quality. For purposes of this competition, we will consider an applicant as rural if the applicant meets the qualifications for rural applicants as described in the Eligible Applicants section and the applicant certifies that it meets those qualifications through the application.

In implementing this statutory provision and program requirement, the Department may fund high-quality applications from rural applicants out of rank order in the Early-phase competition.

In addition, for the FY 2021 Early-phase competition, the Department intends to award an estimated $35 million in funds for STEM projects and $35 million in funds for SEL projects, contingent on receipt of a sufficient number of applications of sufficient quality.

III. Eligibility Information

1. Eligible Applicants:

(a) An LEA;

(b) An SEA;

(c) The Bureau of Indian Education (BIE);

(d) A consortium of SEAs or LEAs;

(e) A nonprofit (as defined in this notice) organization; and

(f) An LEA, an SEA, the BIE, or a consortium described in clause (d), in partnership with—

(1) A nonprofit organization;

(2) A business;

(3) An educational service agency; or

(4) An IHE.

To qualify as a rural applicant under the EIR program, an applicant must meet both of the following requirements:

(a) The applicant is—

(1) An LEA with an urban-centric district locale code of 32, 33, 41, 42, or 43, as determined by the Secretary;

(2) A consortium of such LEAs;

(3) An educational service agency or a nonprofit organization in partnership with such an LEA; or

(4) A grantee described in clause (1) or (2) in partnership with an SEA; and

(b) A majority of the schools to be served by the program are designated with a locale code of 32, 33, 41, 42, or 43, or a combination of such codes, as determined by the Secretary.

Applicants are encouraged to retrieve locale codes from the National Center for Education Statistics School District search tool (https://nces.ed.gov/ccd/districtsearch/), where districts can be looked up individually to retrieve locale codes, and Public School search tool (https://nces.ed.gov/ccd/schoolsearch/), where individual schools can be looked up to retrieve locale codes. More information on rural applicant eligibility is in the application package.

Note: If you are a nonprofit organization, under 34 CFR 75.51, you may demonstrate your nonprofit status by providing: (1) Proof that the Internal Revenue Service currently recognizes the applicant as an organization to which contributions are tax deductible under section 501(c)(3) of the Internal Revenue Code, (2) a statement from a State taxing body or the State attorney general certifying that the organization is a nonprofit organization operating within the State and that no part of its net earnings may lawfully benefit any private shareholder or individual, (3) a certified copy of the applicant's certificate of incorporation or similar document if it clearly establishes the nonprofit status of the applicant, or (4) any item described above if that item applies to a State or national parent organization, together with a statement by the State or parent organization that the applicant is a local nonprofit affiliate.

In addition, any IHE is eligible to be a partner in an application where an LEA, SEA, BIE, consortium of SEAs or LEAs, or a nonprofit organization is the lead applicant that submits the application. A private IHE that is a nonprofit organization can apply for an EIR grant. A nonprofit organization, such as a development foundation, that is affiliated with a public IHE can apply for a grant. A public IHE that has 501(c)(3) status would also qualify as a nonprofit organization and could be a lead applicant for an EIR grant. A public IHE without 501(c)(3) status (even if that entity is tax exempt under Section 115 of the Internal Revenue Code or any other State or Federal provision), or that could not provide any other documentation described in 34 CFR 75.51(b), however, would not qualify as a nonprofit organization, and therefore could not apply for and receive an EIR grant.

2. Cost Sharing or Matching: Under section 4611(d) of the ESEA, each grant recipient must provide, from Federal, State, local, or private sources, an amount equal to 10 percent of funds provided under the grant, which may be provided in cash or through in-kind contributions, to carry out activities supported by the grant. Grantees must include a budget showing their matching contributions to the budget amount of EIR grant funds and must provide evidence of their matching contributions for the first year of the grant in their grant applications. Section 4611(d) of the ESEA also authorizes the Secretary to waive this matching requirement on a case-by-case basis, upon a showing of exceptional circumstances, such as:

(a) The difficulty of raising matching funds for a program to serve a rural area;

(b) The difficulty of raising matching funds in areas with a concentration of LEAs or schools with a high percentage of students aged 5 through 17—

(1) Who are in poverty, as counted in the most recent census data approved by the Secretary;

(2) Who are eligible for a free or reduced price lunch under the Richard B. Russell National School Lunch Act (42 U.S.C. 1751 et seq.);

(3) Whose families receive assistance under the State program funded under part A of title IV of the Social Security Act (42 U.S.C. 601 et seq.); or

(4) Who are eligible to receive medical assistance under the Medicaid program; and

(c) The difficulty of raising funds on Tribal land.

Applicants that wish to apply for a waiver must include a request in their application that describes why the matching requirement would cause serious hardship or an inability to carry out project activities. Further information about applying for waivers can be found in the application package. However, given the importance of matching funds to the long-term success of the project, the Secretary expects eligible entities to identify appropriate matching funds.

3. Subgrantees: A grantee under this competition may not award subgrants to entities to directly carry out project activities described in its application.

4. Other: a. Funding Categories: An applicant will be considered for an award only for the type of EIR grant for which it applies (i.e., Early-phase: Absolute Priority 2, Early-phase: Absolute Priority 3, or Early-phase: Absolute Priority 4). An applicant may not submit an application for the same proposed project under more than one type of grant (e.g., both an Early-phase grant and Mid-phase grant).

Note: Each application will be reviewed under the competition it was submitted under in the Grants.gov system, and only applications that are successfully submitted by the established deadline will be peer reviewed. Applicants should be careful that they download the intended EIR application package and that they submit their applications under the intended EIR competition.

b. Evaluation: The grantee must conduct an independent evaluation of the effectiveness of its project.

c. High-need students: The grantee must serve high-need students.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Submission of Proprietary Information: Given the types of projects that may be proposed in applications for Early-phase grants, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, address the selection criteria that reviewers use to evaluate your application. We recommend that you (1) limit the application narrative for an Early-phase grant to no more than 25 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative.

6. Notice of Intent to Apply: The Department will be able to review grant applications more efficiently if we know the approximate number of applicants that intend to apply. Therefore, we strongly encourage each potential applicant to notify us of their intent to submit an application. Applicants may access this form using the link available on the Notice of Intent to Apply section of the competition website: https://oese.ed.gov/offices/office-of-discretionary-grants-support-services/innovation-early-learning/education-innovation-and-research-eir. Applicants that do not submit a notice of intent to apply may still apply for funding; applicants that do submit a notice of intent to apply are not bound to apply or bound by the information provided.

V. Application Review Information

1. Selection Criteria: The selection criteria for the Early-phase competition are from 34 CFR 75.210. The points assigned to each criterion are indicated in the parentheses next to the criterion. An applicant may earn up to a total of 100 points based on the selection criteria for the application.

A. Significance (up to 20 points).

The Secretary considers the significance of the proposed project. In determining the significance of the proposed project, the Secretary considers the following factors:

(1) The extent to which the proposed project involves the development or demonstration of promising new strategies that build on, or are alternatives to, existing strategies. (15 points)

(2) The extent to which the results of the proposed project are to be disseminated in ways that will enable others to use the information or strategies. (5 points)

B. Quality of the Project Design (up to 30 points).

The Secretary considers the quality of the design of the proposed project. In determining the quality of the design of the proposed project, the Secretary considers the following factors:

(1) The extent to which there is a conceptual framework underlying the proposed research or demonstration activities and the quality of that framework. (15 points)

(2) The extent to which the goals, objectives, and outcomes to be achieved by the proposed project are clearly specified and measurable. (5 points)

(3) The extent to which the design of the proposed project is appropriate to, and will successfully address, the needs of the target population or other identified needs. (10 points)

C. Adequacy of Resources and Quality of the Management Plan (up to 25 points).

The Secretary considers the adequacy of resources and the quality of the management plan for the proposed project. In determining the adequacy of resources and quality of the management plan, the Secretary considers the following factors:

(1) The adequacy of the management plan to achieve the objectives of the proposed project on time and within budget, including clearly defined responsibilities, timelines, and milestones for accomplishing project tasks. (10 points)

(2) The qualifications, including relevant training and experience, of key project personnel. (5 points)

(3) The extent to which the costs are reasonable in relation to the objectives, design, and potential significance of the proposed project. (5 points)

(4) The adequacy of procedures for ensuring feedback and continuous improvement in the operation of the proposed project. (5 points)

D. Quality of the Project Evaluation (up to 25 points).

The Secretary considers the quality of the evaluation to be conducted of the proposed project. In determining the quality of the evaluation, the Secretary considers the following factors:

(1) The extent to which the methods of evaluation will, if well implemented, produce evidence about the project's effectiveness that would meet the What Works Clearinghouse standards with or without reservations as described in the What Works Clearinghouse Handbook (as defined in this notice). (15 points)

(2) The extent to which the methods of evaluation will provide performance feedback and permit periodic assessment of progress toward achieving intended outcomes. (5 points)

(3) The potential contribution of the proposed project to increased knowledge or understanding of educational problems, issues, or effective strategies. (5 points)

Note: Applicants may wish to review the following technical assistance resources on evaluation: (1) WWC Procedures and Standards Handbooks: https://ies.ed.gov/ncee/wwc/Handbooks; (2) “Technical Assistance Materials for Conducting Rigorous Impact Evaluations”: http://ies.ed.gov/ncee/projects/evaluationTA.asp; and (3) IES/NCEE Technical Methods papers: http://ies.ed.gov/ncee/tech_methods/. In addition, applicants may view an optional webinar recording that was hosted by the Institute of Education Sciences. The webinar focused on more rigorous evaluation designs, discussing strategies for designing and executing experimental studies that meet WWC evidence standards without reservations. This webinar is available at: http://ies.ed.gov/ncee/wwc/Multimedia/18.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

Before making awards, we will screen applications submitted in accordance with the requirements in this notice to determine whether applications have met eligibility and other requirements. This screening process may occur at various stages of the process; applicants that are determined to be ineligible will not receive a grant, regardless of peer reviewer scores or comments.

Peer reviewers will read, prepare a written evaluation of, and score the assigned applications, using the selection criteria provided in this notice.

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded Early-phase grant funds must have a plan to disseminate these public grant deliverables. This dissemination plan can be developed and submitted after your application has been reviewed and selected for funding. For additional information on the open licensing requirements please refer to 2 CFR 3474.20.

Note: The evaluation report is a specific deliverable under an Early-phase grant that grantees must make available to the public. Additionally, EIR grantees are encouraged to submit final studies resulting from research supported in whole or in part by EIR to the Educational Resources Information Center (http://eric.ed.gov).

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: The overall purpose of the EIR program is to expand the implementation of, and investment in, innovative practices that are demonstrated to have an impact on improving student achievement and attainment for high-need students. We have established, for the purpose of the Government Performance and Results Act of 1993 (GPRA), several performance measures (as defined in this notice) for the Early-phase grants.

Annual performance measures: (1) The percentage of grantees that reach their annual target number of students as specified in the application; (2) the percentage of grantees that reach their annual target number of high-need students as specified in the application; (3) the percentage of grantees with ongoing well-designed and independent evaluations that will provide evidence of their effectiveness at improving student outcomes in multiple contexts; (4) the percentage of grantees that implement an evaluation that provides information about the key practices and the approach of the project so as to facilitate replication; (5) the percentage of grantees that implement an evaluation that provides information on the cost-effectiveness of the key practices to identify potential obstacles and success factors to scaling; and (6) the cost per student served by the grant.

Cumulative performance measures: (1) The percentage of grantees that reach the targeted number of students specified in the application; (2) the percentage of grantees that reach the targeted number of high-need students specified in the application; (3) the percentage of grantees that implement a completed, well-designed, well-implemented and independent evaluation that provides evidence of their effectiveness at improving student outcomes at scale; (4) the percentage of grantees with a completed well-designed, well-implemented, and independent evaluation that provides information about the key elements and the approach of the project so as to facilitate replication or testing in other settings; (5) the percentage of grantees with a completed evaluation that provided information on the cost-effectiveness of the key practices to identify potential obstacles and success factors to scaling; and (6) the cost per student served by the grant.

Project-Specific Performance Measures: Applicants must propose project-specific performance measures and performance targets (as defined in this notice) consistent with the objectives of the proposed project. Applications must provide the following information as directed under 34 CFR 75.110(b) and (c):

(1) Performance measures. How each proposed performance measure would accurately measure the performance of the project and how the proposed performance measure would be consistent with the performance measures established for the program funding the competition.

(2) Baseline (as defined in this notice) data. (i) Why each proposed baseline is valid; or (ii) if the applicant has determined that there are no established baseline data for a particular performance measure, an explanation of why there is no established baseline and of how and when, during the project period, the applicant would establish a valid baseline for the performance measure.

(3) Performance targets. Why each proposed performance target is ambitious yet achievable compared to the baseline for the performance measure and when, during the project period, the applicant would meet the performance target(s).

(4) Data collection and reporting. (i) The data collection and reporting methods the applicant would use and why those methods are likely to yield reliable, valid, and meaningful performance data; and (ii) the applicant's capacity to collect and report reliable, valid, and meaningful performance data, as evidenced by high-quality data collection, analysis, and reporting in other projects or research.

All grantees must submit an annual performance report with information that is responsive to these performance measures.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Ian Rosenblum,
Deputy Assistant Secretary for Policy and Programs Delegated the Authority to Perform the Functions and Duties of the Assistant Secretary, Office of Elementary and Secondary Education.

[FR Doc. 2021-16099 Filed 7-27-21; 8:45 am]

BILLING CODE 4000-01-P